DEPARTMENT OF HEALTH AND HUMAN SERVICES

Centers for Medicare & Medicaid Services

Development of Computed Tomography (CT) Image Quality and Safety Hospital Measures

AGENCY: Centers for Medicare & Medicaid Services (CMS), Department of Health and Human Services (HHS).

ACTION: Notice.

SUMMARY: Through this notice of funding opportunity (NOFO), the Centers for Medicare & Medicaid Services (CMS), Center for Clinical Standards and Quality, seeks an application for a single source, cooperative agreement, to develop a radiology electronic clinical quality measure(s) (eCQM) for the following CMS hospital programs: Hospital Inpatient Quality Reporting Program (IQR); Hospital Outpatient Quality Reporting Program (OQR); and Promoting Interoperability Program for Eligible Hospitals and Critical Access Hospitals—formerly Meaningful Use (PI). CMS will provide support to the awardee in their planning, technical assistance, and reporting needs related to submission of a fully developed and tested radiology measures to the 2021 Measures Under Consideration (MUC) List in May 2021.

DATES: This notice of funding opportunity took effect on December 24, 2020.

FOR FURTHER INFORMATION CONTACT: Janis Grady, (410) 786 -7217, for programmatic questions or concerns.

Monica Anderson, (410) 786-2988, for administrative and compliance concerns.

SUPPLEMENTARY INFORMATION:

I. Background

Within the broader context of quality measure use and development, CMS engages in extensive ongoing measure development, quality reporting, and other measure-related activities. In particular, CMS works with measure developers to produce measures for use in CMS quality reporting and value-based payment programs. However, CMS recognizes the benefits of measure development by external stakeholders with quality measure development expertise such as clinical specialty societies, clinical professional organizations, patient advocacy organizations, educational institutions, independent research organizations, health systems, and other entities engaged in quality measure development, and is therefore providing this Notice of Funding Opportunity. The CMS Meaningful Measurement framework https://www.cms.gov/meaningful-measures-20-moving-measure-reduction-modernization guides CMS's quality measures work.

II. Provisions of the Notice

For this NOFO, CMS will accept an application specifically and only for development of radiology electronic clinical quality measures (eCQM) that fill an existing gap or need and are high impact. Pending an acceptable application and budget, the CCSQ/Quality Measurement & Value-Based Incentives Group (QMVIG)/Division of Quality Measurement (DQM) Program Team recommends awarding a single source award to Alara Imaging who is uniquely qualified to complete the work requested. Alara Imaging has specific expertise with CMS in development of radiology measure(s) requested, can provide the proprietary software needed to capture imaging data, and has the ability to transfer those data to CMS. In addition, Alara would serve as the measure steward responsible for guiding the measure through NQF endorsement and the CMS regulatory process.

III. Collection of Information Requirements

This document does not impose information collection requirements, that is, reporting, recordkeeping or third-party disclosure requirements. Consequently, there is no need for review by the Office of Management and Budget under the authority of the Paperwork Reduction Act of 1995 (44 U.S.C. 3501 et seq.).

Authority: Programmatic Authority of the Social Security Act, Titles XI, XVIII, XIX, XXI.

The Administrator of the Centers for Medicare & Medicaid Services (CMS), Seema Verma, having reviewed and approved this document, authorizes Lynette Wilson, who is the Federal Register Liaison, to electronically sign this document for purposes of publication in the Federal Register.

Dated: December 30, 2020.
Lynette Wilson,
Federal Liaison, Centers for Medicare & Medicaid Services.

[FR Doc. 2020-29169 Filed 1-4-21; 8:45 am]

BILLING CODE 4120-01-P